NUCLEAR REGULATORY COMMISSION

[NRC-2009-0384]

Notice of Issuance of Regulatory Guide

AGENCY: Nuclear Regulatory Commission.

ACTION: Notice of issuance and availability of Regulatory Guide 1.40.

FOR FURTHER INFORMATION CONTACT: Thomas Koshy, U.S. Nuclear Regulatory Commission, Washington, DC 20555-0001, telephone: (301) 251-7663, e-mail: Thomas.Koshy@nrc.gov, or R.A. Jervey, telephone: (301) 251-7404, e-mail: Richard.Jervey@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 1.40, “Qualification of Continuous Duty Safety-Related Motors for Nuclear Power Plants,” was issued with a temporary identification as Draft Regulatory Guide DG-1150.

This RG describes a method that the staff of the NRC deems acceptable for complying with the Commission's regulations for qualification of continuous duty safety-related motors for nuclear power plants.

The Commission's regulations in Title 10, Part 50, “Domestic Licensing of Production and Utilization Facilities,” of the Code of Federal Regulations (10 CFR part 50), require that structures, systems, and components in a nuclear power plant that are important to safety be designed to accommodate the effects of environmental conditions (i.e., they must remain functional under postulated design-basis events). Toward that end, General Design Criteria 1, 2, 4, and 23 of Appendix A, “General Design Criteria for Nuclear Power Plants,” to 10 CFR Part 50 contain the general requirements. The specific requirements pertaining to qualification of certain electrical equipment important to safety appear in 10 CFR 50.49, “Environmental Qualification of Electric Equipment Important to Safety for Nuclear Power Plants.” In addition, Criterion III, “Design Control,” of Appendix B, “Quality Assurance Criteria for Nuclear Power Plants and Fuel Reprocessing Plants,” to 10 CFR part 50, requires that test programs, when used to verify the adequacy of a specific design feature, should include suitable qualification testing of a prototype unit under the most adverse design conditions.

II. Further Information

In August 2009, DG-1150 was published with a public comment period of 60 days from the issuance of the guide. The public comment period closed on October 30, 2009. The staff's responses to the comments received are located in the NRC's Agencywide Documents Access and Management System under accession number ML093080126. Electronic copies of RG 1.40, Revision 1 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 22nd day of February 2010.
For the Nuclear Regulatory Commission.
Andrea D. Valentin,
Chief, Regulatory Guide Development Branch, Division of Engineering, Office of Nuclear Regulatory Research.

[FR Doc. 2010-4406 Filed 3-2-10; 8:45 am]

BILLING CODE 7590-01-P